DEPARTMENT OF THE INTERIOR

Fish and Wildlife Service

[FWS-R3-ES-2012-N052: FXES11130300000F3-123-FF03E00000]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before April 9, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE06778A

Applicant: USDA Forest Service, Shawnee National Forest (Rod McClanahan, P.I.), Vienna, IL.

The applicant requests a permit renewal/amendment to take (capture and release; salvage dead specimens) Indiana bats (Myotis sodalis) and Gray bats (Myotis grisescens) on federal lands in Illinois, Indiana, Missouri, and Ohio. Proposed activities are aimed at enhancement of survival of the species in the wild.

Permit Application Number: TE207526

Applicant: U.S. Geological Survey, Columbia Environmental Research Center (Mark Wildhaber, P.I.), Columbia, MO.

The applicant requests a permit renewal/amendment to take Pallid Sturgeon (Scaphirhynchus albus), Topeka shiner (Notropis topeka), and Neosho madtom (Noturus placidus). Proposed activities include captive propagation, reintroduction, scientific study, field assessments, and other recovery activities involving capture, handling, and holding of fish in the laboratory (hatchery) and in the wild. Proposed field activities would occur in the Missouri River, its tributaries, the Middle Mississippi River, Neosho River (KS) and Cottonwood River (KS).

Permit Application Number: TE06809A

Applicant: USDA Forest Service, North Central Research Station (Sybill Amelon, P.I.), Columbia, MO.

The applicant requests a permit renewal to take Indiana bats, gray bats, and Ozark big-eared bats (Corynorhinus townsendii ingens) throughout the range of the species in Alabama, Arkansas, Georgia, Illinois, Indiana, Iowa, Kansas, Kentucky, Michigan, Missouri, North Carolina, Ohio, Pennsylvania, South Carolina, Virginia, West Virginia, and Wisconsin. Proposed activities are for the recovery of the species and enhancement of survival of the species in the wild.

Permit Application Number: TE66634A

Applicant: U.S. Army Corps of Engineers, Memphis, TN.

The applicant requests a permit to take (capture and release) fat pocketbook (Potamilus capax), pink mucket (Lampsilis abrupta), scaleshell (Leptodea leptodon), and rabbitsfoot (Quadrula cylindrical) during freshwater mussel surveys to evaluate potential impacts and avoid harm to listed species. Activities are proposed within the jurisdiction of the Memphis District (USACE) in Illinois and Missouri.

Permit Application Number: TE02378A

Applicant: U.S. Army Corps of Engineers, St. Paul District, St. Paul, MN.

The applicant requests a permit renewal to take (capture and release) Higgins' eye pearlymussel (Lampsilis higginsi) within Minnesota, Iowa, and Wisconsin. Proposed activities are for the enhancement of survival of the species in the wild.

Permit Application Number: TE02344A

Applicant: Mainstream Commercial Divers, Inc.

The applicant requests a permit renewal to take (capture and release) the following freshwater mussels species: Clubshell (Pleurobema clava), Northern riffleshell (Epioblasma torulosa rangiana), Orange-footed pimpleback pearlymussel (Plethobasus cooperianus), Pink mucket pearlymussel, Rough pigtoe (Pleurobema plenum), Purple cat's paw pearlymussel (Epioblasma obliquata obliquata), White cat's paw pearlymussel (Epioblasma obliquata perobliqua), Fanshell (Cyprogenia stegaria), Fat pocketbook, Higgins' eye pearlymussel (Lampsilis higginsi), Winged mapleleaf (Quadrula fragosa), and Scaleshell within the States of Alabama, Arkansas, Florida, Georgia, Illinois, Indiana, Iowa, Kentucky, Mississippi, Missouri, Ohio, Pennsylvania, Tennessee, West Virginia, and Wisconsin. Proposed activities are for the enhancement of survival and recovery of the species in the wild.

Permit Application Number: TE838715

Applicant: The Nature Conservancy, Ohio Operating Unit, Swanton, OH.

The applicant requests a permit renewal to take Karner blue butterfly (Lycaeides melissa samuelis) in the context of habitat management for the recovery of the species at the Kitty Todd Nature Preserve, Lucas County, Ohio.

Permit Application Number: TE66724A

Applicant: Cleveland Metroparks, Timothy Krynak, P.I., Willoughby Hills, OH.

The applicant requests a permit to take (capture and release) Indiana bats within the State of Ohio for the purpose of scientific research aimed at recovery of the species.

Permit Application Number: TE06820A

Applicant: Russell A. Benedict, Central College, Pella, IA

The applicant requests a permit to take (capture and release) Indiana bats and gray bats within the states of Illinois, Iowa, and Missouri. Proposed activities are for the enhancement and recovery of the species in the wild.

Permit Application Number: TE06801A

Applicant: Pittsburgh Wildlife & Environmental, Inc., McDonald, PA.

The applicant requests a permit renewal to take (capture and release) Indiana bats and gray bats throughout the States of Alabama, Arkansas, Florida, Georgia, Illinois, Indiana, Iowa, Kansas, Kentucky, Michigan, Mississippi, Missouri, New Jersey, New York, North Carolina, Ohio, Oklahoma, Pennsylvania, South Carolina, Tennessee, Virginia, West Virginia, and Wisconsin. Proposed activities are for the enhancement of survival and recovery of the species in the wild.

Permit Application Number: TE38842A

Applicant: Sanders Environmental, Inc.

The applicant requests a permit renewal and amendment to take (capture and release) Indiana bats within the States of Illinois, Indiana, Iowa, Michigan, Missouri, Ohio, and Wisconsin. Proposed activities are for the enhancement of survival and recovery of the species in the wild.

Permit Application Number: TE66727A

Applicant: Wildlife Specialists, LLC, Wellsboro, PA.

The applicant requests a permit to take (capture and release) Indiana bats within Ohio for the enhancement of survival of the species in the wild.

Permit Application Number: TE130900

Applicant: EnviroScience, Inc., Stow, OH.

The applicant requests a permit renewal to take (capture and release) freshwater mussel species within the States of Arkansas, Florida, Georgia, Illinois, Indiana, Iowa, Kentucky, Michigan, Minnesota, Missouri, Ohio, Tennessee, and Wisconsin. Take in the context of harass through capture during surveys within these states is proposed for the purpose of enhancement of survival of the species in the wild through evaluation of habitat use and consideration of those species in project planning.

Permit Application Number: TE195082

Applicant: Thomas E. Tomasi, Missouri State University, Springfield, MO.

The applicant requests a permit amendment to take (capture and release; capture and hold; euthanize) gray bats within the State of Missouri for scientific research activities aimed at recovery of the species and enhancement of its survival in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: March 1, 2012.
Lynn Lewis,
Assistant Regional Director, Ecological Services, Region 3.

[FR Doc. 2012-5613 Filed 3-7-12; 8:45 am]

BILLING CODE 4310-55-P